NUCLEAR REGULATORY COMMISSION

Advisory Committee on Reactor Safeguards; Meeting Notice

In accordance with the purposes of Sections 29 and 182b. of the Atomic Energy Act (42 U.S.C. 2039, 2232b), the Advisory Committee on Reactor Safeguards will hold a meeting on October 4-6, 2001, in Conference Room T-2B3, 11545 Rockville Pike, Rockville, Maryland. The date of this meeting was previously published in the Federal Register on Friday, November 17, 2000 (65 FR 69578).

Thursday, October 4, 2001

8:30 A.M.-8:35 A.M.: Opening Remarks by the ACRS Chairman (Open)—The ACRS Chairman will make opening remarks regarding the conduct of the meeting.

8:35 A.M.-10:15 A.M.: Duane Arnold Core Power Uprate (Open/Closed)—The Committee will hear presentations by and hold discussions with representatives of the NRC staff, the Nuclear Management Company, Limited Liability Corporation (LLC), and General Electric Nuclear Energy regarding the license amendment request to increase the core thermal power level for the Duane Arnold Energy Center and the associated staff's Safety Evaluation Report (SER). [NOTE: A portion of this session may be closed to discuss General Electric Nuclear Energy proprietary information applicable to this matter.]

10:35 A.M.-12:30 P.M.: Readiness Assessment for Future Plant Designs and the Staff Proposal Regarding Exelon's Regulatory Licensing Approach for the Pebble Bed Modular Reactor (Open)—The Committee will hear presentations by and hold discussions with representatives of the NRC staff regarding the staff's readiness assessment for future plant designs and the staff proposal regarding Exelon's regulatory licensing approach for the Pebble Bed Modular Reactor.

1:30 P.M.-2:30 P.M.: Action Plan to Address ACRS Comments and Recommendations Associated with the Differing Professional Opinion (DPO) on Steam Generator Tube Integrity (Open)—The Committee will hear presentations by and hold discussions with representatives of the NRC staff regarding the staff's action plan to address the ACRS comments and recommendations, which are included in NUREG-1740, “Voltage-Based Alternative Repair Criteria,” associated with the DPO on steam generator tube integrity.

2:45 P.M.-3:45 P.M.: Proposed Resolution of Generic Safety Issue-173A, “Spent Fuel Storage Pool for Operating Facilities” (Open)—The Committee will hear presentations by and hold discussions with representatives of the NRC staff regarding the proposed resolution of Generic Safety Issue-173A and the response to ACRS comments and recommendations included in the June 20, 2000 ACRS report on this matter.

4:00 P.M.-7:00 P.M.: Discussion of Proposed ACRS Reports (Open)—The Committee will discuss proposed ACRS reports on matters considered during this meeting as well as proposed reports on Reactor Oversight Process, EPRI Report on Resolution of Generic Letter 96-06 Waterhammer Issues, and Response to the August 8, 2001 EDO response to the June 19, 2001 ACRS letter on Risk-Based Performance Indicators.

Friday, October 5, 2001

8:30 A.M.-8:35 A.M.: Opening Remarks by the ACRS Chairman (Open)—The ACRS Chairman will make opening remarks regarding the conduct of the meeting.

8:35 A.M.-10:30 A.M.: Interim Review of the License Renewal Application for the Turkey Point Nuclear Power Plant and Westinghouse Topical Reports Related to License Renewal (Open)—The Committee will hear presentations by and hold discussions with representatives of the NRC staff and the Florida Power and Light Company regarding the license renewal application for the Turkey Point Nuclear Power Plant Units 3 and 4, Westinghouse Topical Reports related to license renewal, and the associated staff's Safety Evaluation Reports.

10:50 A.M.-11:20 A.M.: Subcommittee Report (Open)—Report by the Chairman of the ACRS Subcommittee on Materials and Metallurgy regarding the results of the September 26, 2001 meeting during which several matters associated with steam generator tube integrity issues, including revised Steam Generator Action Plan were discussed.

11:20 A.M.-12:00 Noon: Safety Culture and Risk-Informing General Design Criteria (Open)—The Committee will hear a presentation by and hold discussions with Mr. J. N. Sorensen, ACRS Senior Fellow, regarding his draft reports on safety culture and on risk-informing General Design Criteria of Appendix A to 10 CFR Part 50.

1:00 P.M.-1:45 P.M.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, and organizational and personnel matters relating to the ACRS.

1:45 P.M.-2:00 P.M.: Reconciliation of ACRS Comments and Recommendations (Open)—The Committee will discuss the responses from the NRC Executive Director for Operations (EDO) to comments and recommendations included in recent ACRS reports and letters. The EDO responses are expected to be made available to the Committee prior to the meeting.

2:15 P.M.-3:15 P.M.: Preparation for Meeting with the NRC Commissioners (Open)—The Committee will discuss topics for meeting with the NRC Commissioners scheduled for December 5, 2001.

3:15 P.M.-7:00 P.M.: Discussion of Proposed ACRS Reports (Open)—The Committee will discuss proposed ACRS reports.

Saturday, October 6, 2001

8:30 A.M.-2:30 P.M.: Discussion of Proposed ACRS Reports (Open)—The Committee will continue its discussion of proposed ACRS reports.

2:30 P.M.-3:00 P.M.: Miscellaneous (Open)—The Committee will discuss matters related to the conduct of Committee activities and matters and specific issues that were not completed during previous meetings, as time and availability of information permit.

Procedures for the conduct of and participation in ACRS meetings were published in the Federal Register on October 11, 2000 (65 FR 60476). In accordance with these procedures, oral or written views may be presented by members of the public, including representatives of the nuclear industry. Electronic recordings will be permitted only during the open portions of the meeting and questions may be asked only by members of the Committee, its consultants, and staff. Persons desiring to make oral statements should notify Dr. Sher Bahadur, ACRS, five days before the meeting, if possible, so that appropriate arrangements can be made to allow necessary time during the meeting for such statements. Use of still, motion picture, and television cameras during the meeting may be limited to selected portions of the meeting as determined by the Chairman. Information regarding the time to be set aside for this purpose may be obtained by contacting Dr. Sher Bahadur prior to the meeting. In view of the possibility that the schedule for ACRS meetings may be adjusted by the Chairman as necessary to facilitate the conduct of the meeting, persons planning to attend should check with Dr. Sher Bahadur if such rescheduling would result in major inconvenience.

In accordance with Subsection 10(d) P.L. 92-463, I have determined that it is necessary to close a portion of this meeting noted above to discuss proprietary information per 5 U.S.C. 552b(c)(4).

Further information regarding topics to be discussed, whether the meeting has been canceled or rescheduled, the Chairman's ruling on requests for the opportunity to present oral statements, and the time allotted therefor can be obtained by contacting Dr. Sher Bahadur (telephone 301-415-0138), between 7:30 a.m. and 4:15 p.m., EDT.

ACRS meeting agenda, meeting transcripts, and letter reports are available for downloading or viewing on the internet at http://www.nrc.gov/ACRSACNW.

Videoteleconferencing service is available for observing open sessions of ACRS meetings. Those wishing to use this service for observing ACRS meetings should contact Mr. Theron Brown, ACRS Audio Visual Technician (301-415-8066), between 7:30 a.m. and 3:45 p.m., EDT, at least 10 days before the meeting to ensure the availability of this service. Individuals or organizations requesting this service will be responsible for telephone line charges and for providing the equipment and facilities that they use to establish the videoteleconferencing link. The availability of videoteleconferencing services is not guaranteed.

Dated: September 14, 2001.
Andrew L. Bates,
Advisory Committee Management Officer.

[FR Doc. 01-23445 Filed 9-19-01; 8:45 am]

BILLING CODE 7590-01-P